CONSUMER PRODUCT SAFETY COMMISSION

Sunshine Act Meetings

TIME AND DATE: Wednesday, October 17, 2018, 10:00 a.m.-12:00 p.m.

PLACE: Hearing Room 420, Bethesda Towers, 4330 East-West Highway, Bethesda, MD.

STATUS: Commission Meeting—Open to the Public.

MATTERS TO BE CONSIDERED: Decisional Matter: Final Rule to Revise Current Fireworks Regulation.

A live webcast of the Meeting can be viewed at https://www.cpsc.gov/live.

CONTACT PERSON FOR MORE INFORMATION: Rockelle Hammond, Office of the Secretariat, Office of the General Counsel, U.S. Consumer Product Safety Commission, 4330 East-West Highway, Bethesda, MD 20814, (301) 504-6833.

Dated: October 5, 2018.
Alberta E. Mills,
Secretary.

[FR Doc. 2018-22240 Filed 10-9-18; 4:15 pm]

BILLING CODE 6355-01-P